DEPARTMENT OF DEFENSE

Department of the Air Force

[Docket ID: USAF-2009-0041]

Privacy Act of 1974; System of Records

AGENCY: Department of the Air Force, DoD.

ACTION: Notice to amend a system of records.

SUMMARY: The Department of Air Force proposes to amend a system of records to its inventory of record systems subject to the Privacy Act of 1974 (5 U.S.C. 552a), as amended.

DATES: The changes will be effective on August 3, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6648.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: June 29, 2009.
Morgan E. Frazier,
Alternate OSD Federal Register Liaison Officer, Department of Defense.

F036 AETC S

System name:

Flying Training Records (June 11, 1997, 62 FR 31793).

Changes:

* * * * *

System location:

Delete entry and replace with “306 Flying Training Group, 1st Flying Training Squadron, Pueblo, CO 81001.”

Categories of individuals covered by the system:

Delete entry and replace with “All students entered in Initial Flight Screening.”

Categories of records in the system:

Delete entry and replace with “Flying training grades and records. Complete record of training including class number, flying and academic course completed, flying hours, whether graduated or eliminated and date, reason for elimination. Commander's Review proceedings, student performance in each category of training, including grades, evaluations and performance documentation, background information including name, grade and Social Security Number (SSN).”

Authority for maintenance of the system:

Delete entry and replace with “10 U.S.C. 8013, Secretary of the Air Force: powers and duties; delegation by; Air Education and Training Command Instruction 36-2205, Formal Aircrew Training Administration and Management, and E.O. 9397 (SSN).”

Purpose(s):

Delete entry and replace with “To determine flying training potential, document and record performance, and manage training.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

The `DoD Blanket Routine Uses' published the beginning of the Air Force's compilation of record system notices apply to this system.”

Policies and practices for storing, retrieving, accessing, retaining, and disposing of records in the system:

Storage:

Delete entry and replace with “Paper file folders and electronic storage media.”

* * * * *

Retention and disposal:

Delete entry and replace with “Student training records are destroyed 1 year after completion of the Initial Flight Screening program. Student grade books are destroyed 18 months after class graduates. Commander's review records are destroyed one year after closeout. Records are destroyed by tearing into pieces, shredding, pulping, macerating or burning. Computer records are destroyed by erasing, deleting or overwriting.”

System manager(s) and address:

Delete entry and replace with “Commander, 1st Flying Training Squadron, Pueblo, CO 81001.”

Notification procedure:

Delete entry and replace with “Individuals seeking to determine whether this system of records contains information on themselves should address written inquiries to Commander, 1st Flying Training Squadron, Pueblo, CO 81001.

Social Security Number and full name are required to determine if the system contains a record relative to any specific individual. Valid proof of identity is required.”

Record access procedures:

Delete entry and replace with “Individuals seeking to access records about themselves contained in this system should address requests to the Commander, 1st Flying Training Squadron, Pueblo, CO 81001.

Social Security Number (SSN) and full name are required to determine if the system contains a record relative to any specific individual. Valid proof of identity is required.”

Contesting record procedures:

Delete entry and replace with “The Air Force rules for accessing records, for contesting contents, and appealing initial agency determinations are published in Air Force Instruction 33-332; 32 CFR part 806b; or may be obtained from the system manager.”

* * * * *

F036 AETC S

System name:

Flying Training Records.

System location:

306 Flying Training Group, 1st Flying Training Squadron, Pueblo, CO 81001.

Categories of individuals covered by the system:

All students entered in Initial Flight Screening.

Categories of records in the system:

Flying training grades and records. Complete record of training including class number, flying and academic course completed, flying hours, whether graduated or eliminated and date, reason for elimination. Commander's Review proceedings, student performance in each category of training, including grades, evaluations and performance documentation, background information including name, grade and Social Security Number (SSN).

Authority for maintenance of the system:

10 U.S.C. 8013, Secretary of the Air Force: powers and duties; delegation by; Air Education and Training Command Instruction 36-2205, Formal Aircrew Training Administration and Management, and E.O. 9397 (SSN).

Purpose(s):

To determine flying training potential, document, and record performance, and manage training.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The `DoD Blanket Routine Uses' published the beginning of the Air Force's compilation of record system notices apply to this system.

Policies and practices for storing, retrieving, accessing, retaining, and disposing of records in the system:

Storage:

Paper file folders and electronic storage media.

Retrievability:

Retrieved by name or Social Security Number (SSN).

Safeguards:

Records are accessed by person(s) responsible for servicing the record system in performance of their official duties and by authorized personnel who are properly screened and cleared for need-to-know. Records are stored in locked rooms and cabinets. Those in computer storage devices are protected by computer system software.

Retention and disposal:

Student training records are destroyed 1 year after completion of the Initial Flight Screening program. Student grade books are destroyed 18 months after class graduates. Commander's review records are destroyed one year after closeout. Records are destroyed by tearing into pieces, shredding, pulping, macerating or burning. Computer records are destroyed by erasing, deleting or overwriting.

System manager(s) and address:

Commander, 1st Flying Training Squadron, Pueblo, CO 81001.

Notification procedure:

Individuals seeking to determine whether this system of records contains information on themselves should address written inquiries to the Commander, 1st Flying Training Squadron, Pueblo, CO 81001.

Social Security Number (SSN) and full name are required to determine if the system contains a record relative to any specific individual. Valid proof of identity is required.

Record access procedures:

Individuals seeking to access records about themselves contained in this system should address requests to the Commander, 1st Flying Training Squadron, Pueblo, CO 81001.

Social Security Number and full name are required to determine if the system contains a record relative to any specific individual. Valid proof of identity is required.

Contesting record procedures:

The Air Force rules for accessing records, for contesting contents, and appealing initial agency determinations are published in Air Force Instruction 33-332; 32 CFR part 806b; or may be obtained from the system manager.

Record source categories:

Internally generated. Information from source documents, such as grade sheets, written examinations, and flight examinations; from reports by instructors, and from the individual.

Exemptions claimed for the system:

None.

[FR Doc. E9-15625 Filed 7-1-09; 8:45 am]

BILLING CODE 5001-06-P